OFFICE OF MANAGEMENT AND BUDGET

Standard Occupational Classification (SOC)—Policy Committee's Recommendations for the 2010 SOC

AGENCY: Executive Office of the President, Office of Management and Budget.

ACTION: Notice of Standard Occupational Classification Policy Committee; Recommendations to OMB and Solicitation of Comments.

SUMMARY: Under the authority of the Budget and Accounting Procedures Act of 1950 (31 U.S.C. 1104(d)) and the Paperwork Reduction Act of 1995 (44 U.S.C. 3504(e)), the Office of Management and Budget (OMB) is seeking public comment on the Standard Occupational Classification Policy Committee's (SOCPC) recommendations presented in this notice for revising the 2000 Standard Occupational Classification (SOC) for 2010.

The SOC is designed to reflect the current occupational structure of the United States; it classifies all occupations in which work is performed for pay or profit. The SOC covers all jobs in the national economy, including occupations in the public, private, and military sectors. All Federal agencies that publish occupational data are required to use the SOC; State and local government agencies are strongly encouraged to use this national system to promote a common language for categorizing and analyzing occupations.

In a prior Federal Register notice (71 FR 28536, May 16, 2006), OMB and the SOCPC requested comments on: (1) The Standard Occupational Classification principles, (2) corrections to the 2000 SOC Manual, (3) the intention to retain the current SOC Major Group structure, (4) changes to the existing detailed occupations, and (5) new detailed occupations to be added to the revised 2010 SOC.

The classification principles, coding guidelines, and occupations recommended in this notice reflect the comments received in response to the May 16, 2006, notice and represent the SOCPC's final recommendations to OMB. OMB, in consultation with the SOCPC, will consider comments in response to this notice in making its final decisions for the 2010 SOC revision and will publish its decisions in the Federal Register. The SOCPC will then finish preparing the 2010 Standard Occupational Classification Manual for publication, including finalizing occupational definitions, assigning associated job titles, and developing a crosswalk to the 2000 SOC.

Appendices: This notice includes three appendices in the SUPPLEMENTARY INFORMATION section below. Appendix A presents the SOCPC's recommended SOC Classification Principles and SOC Coding Guidelines. Appendix B provides a crosswalk between the occupation codes in the 2000 SOC and the recommended revised codes for the 2010 SOC. Appendix C provides a crosswalk between the recommended revised codes for the 2010 SOC and the 2000 SOC.

Request for Comments: In addition to general comments on the SOCPC's recommendations, OMB welcomes comments specifically addressing: (1) The SOC Classification Principles and SOC Coding Guidelines recommended by the SOCPC (Appendix A); (2) their recommended changes to titles and codes of occupations from the 2000 SOC (Appendix B); (3) the SOCPC's recommended changes to the hierarchical structure of the SOC, including changes to major, minor, broad, and detailed occupation groups (Appendix C); and (4) the titles, placement, and codes of new occupations that the SOCPC is recommending be added in the revised 2010 SOC (Appendix C). All comments submitted in response to this notice may be made available to the public, including by posting them on OMB's Web site. For this reason, please do not include in your comments information of a confidential nature, such as sensitive personal information or proprietary information.

Electronic Availability: This document is available on the Internet from the Bureau of Labor Statistics at http://www.bls.gov/soc/home.htm. This Web page contains links to previous SOC Federal Register notices, and related documents, as well as the full SOCPC recommended 2010 SOC structure. To obtain this notice via e-mail, please send a message requesting the SOCPC recommendations Federal Register notice to soc@bls.gov.

DATES: To ensure consideration, all comments must be in writing and received on or before July 21, 2008.

ADDRESSES: Comments may be sent to: Katherine K. Wallman, Chief Statistician, Office of Management and Budget, 10201 New Executive Office Building, Washington, DC 20503, telephone number: (202) 395-3093, fax number: (202) 395-7245 or e-mailed to OMB at soc@omb.eop.gov with the subject 2010 SOC. Comments may also be sent via http://www.regulations.gov—a Federal E-Government Web site that allows the public to find, review, and submit comments on documents that agencies have published in the Federal Register and that are open for comment. Simply type “2010 SOC” (in quotes) in the Comment or Submission search box, click Go, and follow the instructions for submitting comments. Comments received with subject 2010 SOC by the date specified above will be included as part of the official record. Because of delays in the receipt of regular mail related to security screening, respondents are encouraged to use electronic communications.

FOR FURTHER INFORMATION CONTACT: Paul Bugg, Office of Information and Regulatory Affairs, OMB, 10201 New Executive Office Building, 725 17th Street, NW., Washington, DC 20503; e-mail: pbugg@omb.eop.gov; telephone number: (202) 395-3095; fax number: (202) 395-7245.

SUPPLEMENTARY INFORMATION:

History of the 2000 SOC Revision

The 2000 Standard Occupational Classification (SOC), which replaced the 1980 SOC, was developed in response to a growing need for a universal occupational classification system. Such a classification system allows government agencies and private industry to produce comparable data. Users of occupational data include government program managers, industrial and labor relations practitioners, job seekers, employers wishing to set salary scales or locate an establishment, academic and business researchers, and educational institutions—including teachers, guidance counselors, and students exploring careers and identifying career education and training alternatives.

In 1994, the Office of Management and Budget formed the SOC Revision Policy Committee (SOCRPC) with members from the Department of Labor's Bureau of Labor Statistics and Employment and Training Administration, the Department of Commerce's Census Bureau, the Department of Defense's Defense Manpower Data Center, the National Science Foundation, the National Occupational Information Coordinating Committee, the Office of Personnel Management, and the Office of Management and Budget , as well as participants from the Departments of Agriculture, Health and Human Services, and Transportation, and the Equal Employment Opportunity Commission. The 2000 SOC is the result of a cooperative effort by the major Federal agencies that use occupational classification systems to maximize the usefulness of occupational information collected by the Federal Government and is the result of four years of research by the SOCRPC and work groups composed of members from more than fifteen government agencies.

The SOCRPC was charged with identifying the major statistical uses of occupational classifications and creating a classification system that reflected the current occupational structure in the United States. The SOCRPC used the Bureau of Labor Statistics' Occupational Employment Statistics (OES) classification system as the starting point for the new SOC framework.

In carrying out this charge, OMB and the committee issued several Federal Register notices. Based on comments in response to these notices, the SOCRPC and OMB developed and published the 2000 Standard Occupational Classification Manual and established the Standard Occupational Classification Policy Committee (SOCPC) to monitor the implementation of the new SOC and carry out periodic revisions.

The 2010 SOC Revision

In 2005, the Office of Management and Budget met with the Standard Occupational Classification Policy Committee (SOCPC) to plan for the 2010 SOC revision. The SOCPC includes representatives from the Department of Labor's Bureau of Labor Statistics and Employment and Training Administration, the Department of Commerce's Census Bureau, the Department of Defense's Defense Manpower Data Center, the Department of Education, the Department of Health and Human Services, the Equal Employment Opportunity Commission, the National Science Foundation, the Office of Personnel Management, and, ex officio, the Office of Management and Budget.

To initiate the formal 2010 SOC revision process, OMB and the SOCPC requested public comment in a May 16, 2006, Federal Register notice (71 FR 28536) on: (1) The Standard Occupational Classification principles, (2) corrections to the 2000 SOC Manual, (3) the intention to retain the current SOC Major Group structure, (4) changes to the existing detailed occupations, and (5) new detailed occupations to be added to the revised 2010 SOC.

To carry out the bulk of the revision effort, the committee created six work groups to examine occupations in the following major groups: Management, Professional, and Related Occupations (codes 11-29-0000); Service Occupations (codes 31-39-0000); Sales and Office Occupations (codes 41-43-0000); Natural Resources, Construction, and Maintenance Occupations (codes 45-49-0000); Production, Transportation, and Material Moving Occupations (codes 51-53-0000) and Military Specific Occupations (code 55-0000).

The work groups were charged with reviewing comments received in response to the May 16, 2006, Federal Register notice and providing recommendations to the SOCPC. Guided by the classification principles, the SOCPC reviewed the recommendations from the workgroups and reached decisions by consensus. This Federal Register notice presents the final recommendations of the SOCPC to OMB for the 2010 SOC revision and requests public comment on those recommendations.

SOCPC Recommended Changes

The SOCPC received and reviewed hundreds of comments in response to the May 16, 2006, Federal Register notice. The SOCPC has restructured the SOC Classification Principles by revising them and adding a new section on SOC Coding Guidelines in response to some of these comments; please see Appendix A for the results of these recommended changes together with an outline of their motivation. In response to other comments, the SOCPC created new occupations, revised occupational titles, and made changes to the structure and placement of individual occupations. Appendices B and C show these recommended revisions.

In addition to general comments on the SOCPC's recommendations, OMB welcomes comments specifically addressing: (1) The SOC Classification Principles and SOC Coding Guidelines recommended by the SOCPC (Appendix A); (2) their recommended changes to titles and codes of occupations from the 2000 SOC (Appendix B); (3) the SOCPC's recommended changes to the hierarchical structure of the SOC, including changes to major, minor, broad, and detailed occupation groups (Appendix C); and (4) the titles, placement, and codes of new occupations that the SOCPC is recommending be added in the revised 2010 SOC (Appendix C).

OMB, in consultation with the SOCPC, will consider comments in response to this notice in making its final decisions for the 2010 SOC revision and will publish its decisions in the Federal Register. The SOCPC will then finish preparing the 2010 Standard Occupational Classification Manual for publication, including finalizing occupational definitions, assigning associated job titles, and developing a crosswalk to the 2000 SOC.

Susan E. Dudley,
Administrator, Office of Information and Regulatory Affairs.

Appendix A: Classification Principles and Coding Guidelines

In reviewing comments on the 2000 SOC Classification Principles, members of the SOCPC noted that some of the principles were actually guidelines intended to assist data coders and users in consistently assigning SOC codes and titles to survey responses and in other coding activities. Consequently, the SOCPC recommends restructuring the SOC Classification Principles by revising them and extracting the guideline elements to form a new set of SOC Coding Guidelines. Aside from this restructuring, the substantive changes recommended by the SOCPC include the removal of credentials from the list of criteria in Principle 2 and the development of a new principle on collectability presented as Principle 8.

The removal of credentials as a basis of classification was motivated by the instability in classification resulting from the difficulty of obtaining accurate, recent information on current credential requirements and certification status of incumbents as well as the lack of uniformity across the various State and local jurisdictions on the credentials they require. This variation in requirements and credential information prevents consistent occupational classification across data related to various jurisdictions, establishments, and occupations.

The recommendation to include a collectability principle was motivated by the agencies' experience with the 2000 SOC in which they found that some of the 2000 SOC occupations either could not be collected consistently or, once collected, could not be reported because of potential disclosure of confidential statistical information. This inability to collect consistently or to publish certain occupations needlessly imposed collection burden on respondents, used Federal data collection resources inefficiently, and undermined the consistency and accuracy of occupational data.

The SOCPC's recommended SOC Classification Principles and SOC Coding Guidelines are shown below.

SOC Classification Principles

The SOC Classification Principles form the basis on which the SOC system is structured.

1. The SOC Classification covers all occupations in which work is performed for pay or profit, including work performed in family-operated enterprises by family members who are not directly compensated. It excludes occupations unique to volunteers. Each occupation is assigned to only one occupational category at the lowest level of the classification.

2. Occupations are classified based on work performed and, in some cases, on the skills, education, and/or training needed to perform the work at a competent level.

3. Workers primarily engaged in planning and directing are classified in management occupations in Major Group 11-0000.

4. Supervisors of workers in Major Groups 13-0000 through 29-0000 usually have work experience and perform activities similar to those of the workers they supervise, and therefore are classified with the workers they supervise.

5. Workers in Major Groups 33-0000 through 53-0000 whose primary duty is supervising are classified in the appropriate first-line supervisor/manager category because their work activities are distinct from those of the workers they supervise.

6. Apprentices and trainees are classified with the occupations for which they are being trained, while helpers and aides are classified separately because they are not in training for the occupation they are helping.

7. If an occupation is not included as a distinct detailed occupation in the structure, it is classified in an appropriate “All Other,” or residual, occupation. “All Other” occupations are placed in the structure when it is determined that the detailed occupations comprising a broad occupation group do not account for all of the workers in the group. These occupations appear as the last occupation in the group with a code ending in “9” and are identified in their title by having “All Other” appear at the end.

8. The U.S. Bureau of Labor Statistics and the U.S. Census Bureau are charged with collecting and reporting data on total U.S. employment across the full spectrum of SOC major groups. Thus, for a detailed occupation to be included in the SOC, either the Bureau of Labor Statistics or the Census Bureau must be able to collect and report data on that occupation.

SOC Coding Guidelines

The SOC Coding Guidelines are intended to assist users in consistently assigning SOC codes and titles to survey responses and in other coding activities.

1. A worker should be assigned to an SOC occupation code based on work performed.

2. When workers in a single job could be coded in more than one occupation, they should be coded in the occupation that requires the highest level of skill. If there is no measurable difference in skill requirements, workers should be coded in the occupation in which they spend the most time. Workers whose job is to teach at different levels (e.g., elementary, middle, or secondary) should be coded in the occupation corresponding to the highest educational level they teach.

3. Data collection and reporting agencies should assign workers to the most detailed occupation possible. Different agencies may use different levels of aggregation, depending on their ability to collect data. For more information on data produced using the SOC, see the Frequently Asked Questions (FAQs) section. [Please note: FAQs will be included in the published manual but are not included in this notice.]

4. Workers who perform activities not described in any distinct detailed occupation in the SOC structure should be coded in an appropriate “All Other” or residual occupation. These residual occupational categories appear as the last occupation in a group with a code ending in “9” and are identified by having the words “All Other” appear at the end of the title.

5. Workers in Major Groups 33-0000 through 53-0000 who spend 80 percent or more of their time performing supervisory activities are coded in the appropriate first-line supervisor/manager category in the SOC. In these same Major Groups (33-0000 through 53-0000), persons with supervisory duties who spend less than 80 percent of their time supervising are coded with the workers they supervise.

6. Licensed and non-licensed workers performing the same work should be coded together in the same detailed occupation, except where specified otherwise in the SOC definition.

How to Read Appendix B and Appendix C

Appendix B is a table listing in the first column every detailed occupation from the 2000 SOC that has been revised (including changes to only the code or title) or replaced, with the corresponding recommended 2010 code(s) and title(s) appearing in the second column. An asterisk (*) after the occupation code and title in the second column means that the occupation in the first column only makes up part of the occupation in the second column; that is, the starred 2010 SOC occupation has been created from multiple 2000 SOC codes. Each occupation with the (*) notation appears multiple times in the table.

A new occupation may have been created by breaking out a group of workers previously classified in a 2000 SOC occupation, but the new occupation does not replace the 2000 SOC occupation. In this case, the 2000 occupation will indicate in italics which group or groups have been removed to create a new occupation.

Appendix C is a table listing in the first column every new or revised (including changes to only the code or title) detailed occupation that the SOCPC is recommending for the 2010 SOC. The corresponding 2000 SOC code(s) and title(s) appear in the second column. An asterisk (*) after the occupation code and title in the second column means that the occupation in the first column makes up only part of the occupation in the second column; that is, the starred 2000 SOC occupation has been divided into multiple new occupations. Each occupation with the (*) notation appears multiple times in the table.

Where a detailed occupation has been added or removed, the major group, minor group, and broad occupation codes for that occupation are also listed.

Appendix B: 2000 SOC Related to 2010 SOC Recommended Structure Changes

2000 SOC | 2010 SOC
11-0000 Management Occupations:
11-2031 Public Relations Managers | 11-2031 Public Relations and Fundraising Managers.
11-3000 Operations Specialties Managers:
11-3040 Human Resources Managers | 11-3120 Human Resources Managers.
| 11-3110 Compensation and Benefits Managers.
| 11-3130 Training and Development Managers.
11-3049 Human Resources Managers, All Other | 11-3121 Human Resources Managers.
11-3041 Compensation and Benefits Managers | 11-3111 Compensation and Benefits Managers.
11-3042 Training and Development Managers | 11-3131 Training and Development Managers.
11-9000 Other Management Occupations:
11-9010 Agricultural Managers | 11-9010 Farmers, Ranchers, and Other Agricultural Managers.
11-9011 Farm, Ranch, and Other Agricultural Managers | 11-9013 Farmers, Ranchers, and Other Agricultural Managers *.
11-9012 Farmers and Ranchers | 11-9013 Farmers, Ranchers, and Other Agricultural Managers *.
11-9031 Education Administrators, Preschool and Child Care Center/Program | 11-9031 Education Administrators, Preschool and Childcare Center/Program.
11-9041 Engineering Managers | 11-9041 Architectural and Engineering Managers.
11-9061 Funeral Directors | 11-9061 Funeral Service Managers Except morticians and undertakers.
| 39-4031 Morticians, Undertakers, and Funeral Directors.
13-0000 Business and Financial Operations Occupations:
13-1000 Business Operations Specialists
13-1021 Purchasing Agents and Buyers, Farm Products | 13-1021 Buyers and Purchasing Agents, Farm Products.
13-1040 Compliance Officers, Except Agriculture, Construction, Health and Safety, and Transportation:
13-1041 Compliance Officers, Except Agriculture, Construction, Health and Safety, and Transportation | 13-1041 Compliance Officers.
13-1060 Emergency Management Specialists:
13-1061 Emergency Management Specialists | 11-9161 Emergency Management Directors.
13-1070 Human Resources, Training, and Labor Relations Specialists | 13-1070 Human Resources Workers.
| 13-1140 Compensation, Benefits, and Job Analysis Specialists.
| 13-1150 Training and Development Specialists.
13-1071 Employment, Recruitment, and Placement Specialists | 13-1071 Human Resources Specialists.
13-1072 Compensation, Benefits, and Job Analysis Specialists | 13-1141 Compensation, Benefits, and Job Analysis Specialists.
13-1073 Training and Development Specialists | 13-1151 Training and Development Specialists.
13-1079 Human Resources, Training, and Labor Relations Specialists, All Other | 13-1079 Human Resources Workers, All Other *.
13-2070 Loan Counselors and Officers | 13-2070 Credit Counselors and Loan Officers.
13-2071 Loan Counselors | 13-2071 Credit Counselors.
13-2081 Tax Examiners, Collectors, and Revenue Agents | 13-2081 Tax Examiners and Collectors and Revenue Agents.
15-0000 Computer and Mathematical Science Occupations:
15-1000 Computer Specialists | 15-1100 Computer Occupations.
15-1110 Computer and Information Scientists, Research | 15-1110 Computer and Information Research Scientists.
15-1011 Computer and Information Scientists, Research | 15-1111 Computer and Information Research Scientists.
15-1020 Computer Programmers | 15-1120 Software and Web Developers and Computer Analysts.
15-1021 Computer Programmers | 15-1142 Applications Computer Programmers.
15-1031 Computer Software Engineers, Applications | 15-1122 Software Developers *.
| 15-1123 Web Developers *.
| 15-1124 Information Security Analysts *.
15-1032 Computer Software Engineers, Systems Software | 15-1122 Software Developers *.
15-1041 Computer Support Specialists | 15-1141 Computer Support Specialists.
15-1051 Computer Systems Analysts | 15-1121 Computer Systems Analysts.
15-1061 Database Administrators | 15-1131 Database Administrators and Developers.
15-1071 Network and Computer Systems Administrators | 15-1132 Network and Computer Systems Administrators.
| 15-1143 Computer Network and Systems Technicians *.
15-1081 Network Systems and Data Communications Analysts | 15-1123 Web Developers *.
| 15-1124 Information Security Analysts *.
| 15-1143 Computer Network and Systems Technicians *.
| 15-1144 Web Technicians.
15-1090 Miscellaneous Computer Specialists | 15-1190 Miscellaneous Computer Occupations.
15-1099 Computer Specialists, All Other | 15-1199 Computer Occupations, All Other.
17-3000 Drafters, Engineering, and Mapping Technicians | 17-3000 Drafters, Engineering Technicians, and Mapping Technicians.
19-0000 Life, Physical, and Social Science Occupations:
19-3000 Social Scientists and Related Workers:
19-3020 Market and Survey Researchers | 19-3020 Survey Researchers.
| 13-1160 Market Research Analysts and Marketing Specialists.
19-3021 Market Research Analysts | 13-1161 Market Research Analysts and Marketing Specialists.
21-0000 Community and Social Services Occupations | 21-0000 Community and Social Service Occupations.
21-1012 Educational, Vocational, and School Counselors | 21-1012 Educational, Guidance, School and Vocational Counselors.
21-1022 Medical and Public Health Social Workers | 21-1022 Health Care Social Workers.
21-1091 Health Educators | 21-1091 Health Educators and Community Health Workers.
23-0000 Legal Occupations:
23-1000 Lawyers, Judges, and Related Workers:
23-1010 Lawyers | 23-1010 Lawyers and Judicial Law Clerks.
23-2092 Law Clerks | 23-1012 Judicial Law Clerks.
| 23-2011 Paralegals and Legal Assistants.
25-0000 Education, Training, and Library Occupations:
25-2000 Primary, Secondary, and Special Education School Teachers | 25-2000 Preschool, Primary, Secondary, and Special Education School Teachers.
25-2020 Elementary and Middle School Teachers:
25-2022 Middle School Teachers, Except Special and Vocational Education | 25-2022 Middle School Teachers, Except Special and Career/Technical Education.
25-2023 Vocational Education Teachers, Middle School | 25-2023 Career/Technical Education Teachers, Middle School.
25-2030 Secondary School Teachers:
25-2031 Secondary School Teachers, Except Special and Vocational Education | 25-2031 Secondary School Teachers, Except Special and Career/Technical Education.
25-2032 Vocational Education Teachers, Secondary School | 25-2032 Career/Technical Education Teachers, Secondary School.
25-2040 Special Education Teachers | 25-2050 Special Education Teachers.
25-2041 Special Education Teachers, Preschool, Kindergarten, and Elementary School | 25-2051 Special Education Teachers, Preschool.
| 25-2052 Special Education Teachers, Kindergarten and Elementary School.
25-2042 Special Education Teachers, Middle School | 25-2053 Special Education Teachers, Middle School.
25-2043 Special Education Teachers, Secondary School | 25-2054 Special Education Teachers, Secondary School.
25-3000 Other Teachers and Instructors:
25-3011 Adult Literacy, Remedial Education, and GED Teachers and Instructors | 25-3011 Adult Basic and Secondary Education and Literacy Teachers and Instructors.
25-3090 Miscellaneous Teachers and Instructors:
25-3099 Teachers and Instructors, All Other | 25-3099 Teachers and Instructors, All Other Except all other special education teachers.
| 25-2059 Special Education Teachers, All Other.
25-9011 Audio-Visual Collections Specialists | 25-9011 Audio-Visual and Multimedia Collections Specialists .
27-1014 Multi-Media Artists and Animators | 27-1014 Multimedia Artists and Animators.
29-0000 Healthcare Practitioner and Technical Occupations:
29-1000 Health Diagnosing and Treating Practitioners
29-1111 Registered Nurses | 29-1111 Registered Nurses Except nurse anesthetists, nurse practitioners, and nurse midwives.
| 29-1141 Nurse Anesthetists.
| 29-1151 Nurse Practitioners.
| 29-1161 Nurse Midwives.
29-1120 Therapists:
29-1121 Audiologists | 29-1171 Audiologists.
29-1129 Therapists, All Other | 29-1129 Therapists, All Other Except exercise physiologists.
| 29-1128 Exercise Physiologists.
29-2000 Health Technologists and Technicians:
29-2030 Diagnosing Related Technologists and Technicians | 29-2030 Diagnostic Related Technologists and Technicians.
29-2034 Radiologic Technologists and Technicians | 29-2034 Radiologic Technologists and Technicians Except magnetic resonance imaging technologists.
| 29-2035 Magnetic Resonance Imaging Technologists.
29-2050 Health Diagnosing and Treating Practitioner Support Technicians | 29-2050 Health Practitioner Support Technologists and Technicians.
29-2090 Miscellaneous Health Technologists and Technicians:
29-2099 Health Technologists and Technicians, All Other | 29-2099 Health Technologists and Technicians, All Other Except ophthalmic medical technicians.
| 29-2057 Ophthalmic Medical Technicians.
31-0000 Healthcare Support Occupations:
31-2011 Occupational Therapist Assistants | 31-2011 Occupational Therapy Assistants.
31-2012 Occupational Therapist Aides | 31-2012 Occupational Therapy Aides.
31-9000 Other Healthcare Support Occupations:
31-9090 Miscellaneous Healthcare Support Occupations:
31-9099 Healthcare Support Workers, All Other | 31-9099 Healthcare Support Workers, All Other Except phlebotomists.
| 31-9097 Phlebotomists.
33-0000 Protective Service Occupations:
33-2011 Fire Fighters | 33-2011 Firefighters.
33-9000 Other Protective Service Workers:
33-9090 Miscellaneous Protective Service Workers:
33-9099 Protective Service Workers, All Other | 33-9099 Protective Service Workers, All Other Except transportation security screeners.
| 33-9093 Transportation Security Screeners.
39-0000 Personal Care and Service Occupations:
39-1012 Slot Key Persons | 39-1012 Slot Supervisors.
39-5010 Barbers and Cosmetologists | 39-5010 Barbers, Hairdressers, Hairstylists, and Cosmetologists.
39-5094 Skin Care Specialists | 39-5094 Skincare Specialists.
39-9011 Child Care Workers | 39-9011 Childcare Workers.
41-0000 Sales and Related Occupations:
41-9000 Other Sales and Related Workers:
41-9090 Miscellaneous Sales and Related Workers:
41-9099 Sales and Related Workers, All Other | 41-9099 Sales and Related Workers, All Other Except fundraisers.
| 13-1131 Fundraisers.
43-0000 Office and Administrative Support Occupations:
43-3021 Billing and Posting Clerks and Machine Operators | 43-3021 Billing and Posting Clerks.
43-6011 Executive Secretaries and Administrative Assistants | 43-6011 Executive Secretaries and Executive Administrative Assistants.
43-6014 Secretaries, Except Legal, Medical, and Executive | 43-6014 Secretaries and Administrative Assistants, Except Legal, Medical, and Executive.
43-9000 Other Office and Administrative Support Workers:
43-9190 Miscellaneous Office and Administrative Support Workers:
43-9199 Office and Administrative Support Workers, All Other | 43-9199 Office and Administrative Support Workers, All Other Except all other financial clerks.
| 43-3099 Financial Clerks, All Other.
45-0000 Farming, Fishing, and Forestry Occupations:
45-1010 First-Line Supervisors/Managers of Farming, Fishing, and Forestry Workers:
45-1012 Farm Labor Contractors | 13-1079 Human Resources Workers, All Other *.
| 45-1011 First-Line Supervisors/Managers of Farming, Fishing, and Forestry Workers *.
49-0000 Installation, Maintenance, and Repair Occupations:
49-2021 Radio Mechanics | 49-2021 Radio, Cellular and Tower Equipment, Installers and Repairers.
49-3041 Farm Equipment Mechanics | 49-3041 Farm Equipment Mechanics and Service Technicians.
49-3051 Motorboat Mechanics | 49-3051 Motorboat Mechanics and Service Technicians.
49-9000 Other Installation, Maintenance, and Repair Occupations
49-9090 Miscellaneous Installation, Maintenance, and Repair Workers:
49-9099 Installation, Maintenance, and Repair Workers, All Other | 49-9099 Installation, Maintenance, and Repair Workers, All Other Except general maintenance and repair workers.
| 49-9071 Maintenance and Repair Workers, General.
51-0000 Production Workers:
51-4012 Numerical Tool and Process Control Programmers | 51-4012 Computer Numerically Controlled Machine Tool Programmers, Metal and Plastic.
51-4050 Metal Furnace and Kiln Operators and Tenders | 51-4050 Metal Furnace Operators, Tenders, Pourers, and Casters.
51-4190 Miscellaneous Metalworkers and Plastic Workers | 51-4190 Miscellaneous Metal Workers and Plastic Workers.
51-4192 Lay-Out Workers, Metal and Plastic | 51-4192 Layout Workers, Metal and Plastic.
51-5000 Printing Workers:
51-5010 Bookbinders and Bindery Workers | 51-5110 Printing Workers *.
51-5011 Bindery Workers | 51-5113 Print Finishing and Binding Workers *.
51-5012 Bookbinders | 51-5113 Print Finishing and Binding Workers *.
51-5020 Printers | 51-5110 Printing Workers *.
51-5021 Job Printers | 51-5112 Printing Press Operators *.
| 51-5113 Print Finishing and Binding Workers *.
51-5022 Prepress Technicians and Workers | 51-5111 Prepress Technicians and Workers.
51-5023 Printing Machine Operators | 51-5112 Printing Press Operators *.
51-8031 Water and Liquid Waste Treatment Plant and System Operators | 51-8031 Water and Wastewater Treatment Plant and System Operators.
51-9000 Other Production Occupations:
51-9130 Photographic Process Workers and Processing Machine Operators:
51-9131 Photographic Process Workers | 51-9151 Photographic Process Workers and Processing Machine Operators *.
51-9132 Photographic Processing Machine Operators | 51-9151 Photographic Process Workers and Processing Machine Operators *.
51-9191 Cementing and Gluing Machine Operators and Tenders | 51-9191 Adhesive Bonding Machine Operators and Tenders.
51-9190 Miscellaneous Production Workers:
51-9199 Production Workers, All Other | 51-9199 Production Workers, All Other Except all other food processing workers.
| 51-3099 Food Processing Workers, All Other.
53-3022 Bus Drivers, School | 53-3022 Bus Drivers, School or Special Client.
53-3033 Truck Drivers, Light or Delivery Services | 53-3033 Drivers, Light Vehicle or Delivery Services.
53-7111 Shuttle Car Operators | 53-7111 Mine Shuttle Car Operators.

Appendix C: 2010 SOC Recommended Structure Changes Related to 2000 SOC

2010 SOC | 2000 SOC
11-0000 Management Occupations:
11-2030 Public Relations and Fundraising Managers:
11-2031 Public Relations and Fundraising Managers | 11-2031 Public Relations Managers.
11-3000 Operations Specialties Managers:
11-3110 Compensation and Benefits Managers | 11-3040 Human Resources Managers*.
11-3111 Compensation and Benefits Managers | 11-3041 Compensation and Benefits Managers.
11-3120 Human Resources Managers | 11-3040 Human Resources Managers*.
11-3121 Human Resources Managers | 11-3049 Human Resources Managers, All Other.
11-3130 Training and Development Managers | 11-3040 Human Resources Managers *.
11-3131 Training and Development Managers | 11-3042 Training and Development Managers.
11-9000 Other Management Occupations:
11-9010 Farmers, Ranchers, and Other Agricultural Managers | 11-9010 Agricultural Managers.
11-9013 Farmers, Ranchers, and Other Agricultural Managers | 11-9011 Farm, Ranch, and Other Agricultural Managers.
| 11-9012 Farmers and Ranchers.
11-9031 Education Administrators, Preschool and Childcare Center/Program | 11-9031 Education Administrators, Preschool and Child Care Center/Program.
11-9040 Architectural and Engineering Managers:
11-9041 Architectural and Engineering Managers | 11-9041 Engineering Managers.
1-9060 Funeral Service Managers:
11-9061 Funeral Service Managers Except morticians, undertakers, and funeral directors | 11-9061 Funeral Directors *.
11-9160 Emergency Management Directors
11-9161 Emergency Management Directors | 13-1061 Emergency Management Specialists.
13-0000 Business and Financial Operations Occupations
13-1000 Business Operations Specialists:
13-1021 Buyers and Purchasing Agents, Farm Products | 13-1021 Purchasing Agents and Buyers, Farm Products.
13-1040 Compliance Officers
13-1041 Compliance Officers | 13-1041 Compliance Officers, Except Agriculture, Construction, Health and Safety, and Transportation.
13-1070 Human Resources Workers | 13-1070 Human Resources, Training, and Labor Relations Specialists *.
13-1071 Human Resources Specialists | 13-1071 Employment, Recruitment, and Placement Specialists.
13-1079 Human Resources Workers, All Other | 13-1079 Human Resources, Training, and Labor Relations Specialists, All Other.
| 45-1012 Farm Labor Contractors *.
13-1130 Fundraisers:
13-1131 Fundraisers | 41-9099 Sales and Related Workers, All Other *.
13-1140 Compensation, Benefits, and Job Analysis Specialists | 13-1070 Human Resources, Training, and Labor Relations Specialists *.
13-1141 Compensation, Benefits, and Job Analysis Specialists | 13-1072 Compensation, Benefits, and Job Analysis Specialists.
13-1150 Training and Development Specialists | 13-1070 Human Resources, Training, and Labor Relations Specialists *.
13-1151 Training and Development Specialists | 13-1073 Training and Development Specialists.
13-1160 Market Research Analysts and Marketing Specialists | 19-3020 Market and Survey Researchers *.
13-1161 Market Research Analysts and Marketing Specialists | 19-3021 Market Research Analysts.
13-2070 Credit Counselors and Loan Officers | 13-2070 Loan Counselors and Officers.
13-2071 Credit Counselors | 13-2071 Loan Counselors.
13-2080 Tax Examiners, Collectors and Preparers, and Revenue Agents:
13-2081 Tax Examiners and Collectors, and Revenue Agents | 13-2081 Tax Examiners, Collectors and Revenue Agents.
15-0000 Computer and Mathematical Occupations | 15-0000 Computer and Mathematical Science Occupations.
15-1100 Computer Occupations | 15-1000 Computer Specialists.
15-1110 Computer and Information Research Scientists | 15-1010 Computer and Information Scientists, Research.
15-1111 Computer and Information Research Scientists | 15-1011 Computer and Information Scientists, Research.
15-1120 Software and Web Developers and Computer Analysts:
15-1121 Computer Systems Analysts | 15-1051 Computer Systems Analysts.
15-1122 Software Developers | 15-1031 Computer Software Engineers, Applications *.
| 15-1032 Computer Software Engineers, Systems Software.
15-1123 Web Developers | 15-1031 Computer Software Engineers, Applications *.
| 15-1081 Network Systems and Data Communications Analysts *.
15-1124 Information Security Analysts | 15-1031 Computer Software Engineers, Applications *.
| 15-1081 Network Systems and Data Communications Analysts *.
15-1129 Software and Web Developers and Computer Analysts, All Other | n/a new occupation.
15-1130 Database Specialists and Systems Administrators:
15-1131 Database Administrators and Developers | 15-1061 Database Administrators.
15-1132 Network and Computer Systems Administrators | 15-1071 Network and Computer Systems Administrators *.
15-1140 Computer Programmers, Support Specialists and Technicians:
15-1141 Computer Support Specialists | 15-1041 Computer Support Specialists.
15-1142 Computer Programmers | 15-1021 Computer Programmers.
15-1143 Computer Network and Systems Technicians | 15-1071 Network and Computer Systems Administrators *.
| 15-1081 Network Systems and Data Communications Analysts *.
15-1144 Web Technicians | 15-1081 Network Systems and Data Communications Analysts *.
15-1190 Miscellaneous Computer Occupations:
15-1199 Computer Occupations, All Other | 15-1099 Computer Specialists, All Other.
17-3000 Drafters, Engineering Technicians, and Mapping Technicians | 17-3000 Drafters, Engineering, and Mapping Technicians.
19-0000 Life, Physical, and Social Science Occupations:
19-3000 Social Scientists and Related Workers:
19-3020 Survey Researchers | 19-3020 Market and Survey Researchers *.
21-0000 Community and Social Service Occupations | 21-0000 Community and Social Services Occupations.
21-1012 Educational, Guidance, School and Vocational Counselors | 21-1012 Educational, Vocational, and School Counselors.
21-1022 Health Care Social Workers | 21-1022 Medical and Public Health Social Workers.
21-1091 Health Educators and Community Health Workers | 21-1091 Health Educators.
23-0000 Legal Occupations:
23-1010 Lawyers and Judicial Law Clerks | 23-1010 Lawyers.
23-1012 Judicial Law Clerks | 23-2092 Law Clerks *.
23-2000 Legal Support Workers:
23-2011 Paralegals and Legal Assistants | 23-2011 Paralegals and Legal Assistants.
| 23-2092 Law Clerks* Except judicial law clerks.
25-0000 Education, Training, and Library Occupations:
25-2000 Preschool, Primary, Secondary, and Special Education School Teachers | 25-2000 Primary, Secondary, and Special Education School Teachers.
25-2022 Middle School Teachers, Except Special and Career/Technical Education | 25-2022 Middle School Teachers, Except Special and Vocational Education.
25-2023 Career/Technical Education Teachers, Middle School | 25-2023 Middle School Vocational Education Teachers.
25-2031 Secondary School Teachers, Except Special and Career/Technical Education | 25-2031 Secondary School Teachers, Except Special and Vocational Education.
25-2032 Career/Technical Education Teachers, Secondary School | 25-2032 Vocational Education Teachers, Secondary School.
25-2050 Special Education Teachers | 25-2040 Special Education Teachers.
25-2051 Special Education Teachers, Preschool | 25-2041 Special Education Teachers, Preschool, Kindergarten, and Elementary School *.
25-2052 Special Education Teachers, Kindergarten and Elementary School | 25-2041 Special Education Teachers, Preschool, Kindergarten, and Elementary School *.
25-2053 Special Education Teachers, Middle School | 25-2042 Special Education Teachers, Middle School.
25-2054 Special Education Teachers, Secondary School | 25-2043 Special Education Teachers, Secondary School.
25-2059 Special Education Teachers, All Other | 25-3099 Teachers and Instructors, All Other *.
25-3000 Other Teachers and Instructors:
25-3010 Adult Basic and Secondary Education and Literacy Teachers and Instructors:
25-3011 Adult Basic and Secondary Education and Literacy Teachers and Instructors | 25-3011 Adult Literacy, Remedial Education, and GED Teachers and Instructors.
25-3090 Miscellaneous Teachers and Instructors Except special education teachers, All other | 25-3090 Miscellaneous Teachers and Instructors *.
25-3099 Teachers and Instructors, All Other Except special education teachers, All other | 25-3099 Teachers and Instructors, All Other *.
25-9000 Other Education, Training, and Library Occupations
25-9010 Audio-Visual and Multimedia Collections Specialists:
25-9011 Audio-Visual and Multimedia Collections Specialists | 25-9011 Audio-Visual Collections Specialists.
27-0000 Arts, Design, Entertainment, Sports, and Media Occupations:
27-1014 Multimedia Artists and Animators | 27-1014 Multi-Media Artists and Animators.
29-0000 Healthcare Practitioner and Technical Occupations:
29-1000 Health Diagnosing and Treating Practitioners:
29-1111 Registered Nurses Except nurse anesthetists, nurse practitioners, and nurse midwives | 29-1111 Registered Nurses *.
29-1120 Therapists:
29-1128 Exercise Physiologists | 29-1129 Therapists, All Other *.
29-1129 Therapists, All Other Except exercise physiologists | 29-1129 Therapists, All Other *.
29-1140 Nurse Anesthetists:
29-1141 Nurse Anesthetists | 29-1111 Registered Nurses *.
29-1150 Nurse Practitioners:
29-1151 Nurse Practitioners | 29-1111 Registered Nurses *.
29-1160 Nurse Midwives:
29-1161 Nurse Midwives | 29-1111 Registered Nurses *.
29-1170 Audiologists:
29-1171 Audiologists | 29-1121 Audiologists.
29-2000 Health Technologists and Technicians
29-2030 Diagnostic Related Technologists and Technicians:
29-2034 Radiologic Technologists and Technicians Except magnetic resonance imaging technologists | 29-2034 Radiologic Technologists and Technicians *.
29-2035 Magnetic Resonance Imaging Technologists | 29-2034 Radiologic Technologists and Technicians *.
29-2050 Health Practitioner Support Technologists and Technicians | 29-2050 Health Diagnosing and Treating Practitioner Support Technicians.
29-2057 Ophthalmic Medical Technicians | 29-2099 Health Technologists and Technicians, All Other *.
29-2090 Miscellaneous Health Technologists and Technicians:
29-2099 Health Technologists and Technicians, All Other Except ophthalmic medical technicians | 29-2099 Health Technologists and Technicians, All Other *.
31-0000 Healthcare Support Occupations:
31-2000 Occupational Therapy and Physical Therapist Assistants and Aides | 31-2000 Occupational and Physical Therapist Assistants and Aides.
31-2010 Occupational Therapy Assistants and Aides | 31-2010 Occupational Therapist Assistants and Aides.
31-2011 Occupational Therapy Assistants | 31-2011 Occupational Therapist Assistants.
31-2012 Occupational Therapy Aides | 31-2012 Occupational Therapist Aides.
31-9000 Other Healthcare Support Occupations
31-9090 Miscellaneous Healthcare Support Occupations:
31-9097 Phlebotomists | 31-9099 Healthcare Support Workers, All Other *.
31-9099 Healthcare Support Workers, All Other Except phlebotomists | 31-9099 Healthcare Support Workers, All Other *.
33-0000 Protective Service Occupations:
33-2010 Firefighters | 33-2010 Fire Fighters.
33-2011 Firefighters | 33-2011 Fire Fighters.
33-9000 Other Protective Service Workers
33-9090 Miscellaneous Protective Service Workers:
33-9093 Transportation Security Screeners | 33-9099 Protective Service Workers, All Other *.
33-9099 Protective Service Workers, All Other Except transportation security screeners | 33-9099 Protective Service Workers, All Other *.
39-0000 Personal Care and Service Occupations:
39-1012 Slot Supervisors | 39-1012 Slot Key Persons.
39-4000 Funeral Service Workers
39-4030 Morticians, Undertakers, and Funeral Directors
39-4031 Morticians, Undertakers, and Funeral Directors | 11-9061 Funeral Directors * Except funeral service managers.
39-5000 Personal Appearance Workers
39-5010 Barbers, Hairdressers, Hairstylists, and Cosmetologists | 39-5010 Barbers and Cosmetologists.
39-5094 Skincare Specialists | 39-5094 Skin Care Specialists.
39-9010 Childcare Workers | 39-9010 Child Care Workers.
39-9011 Childcare Workers | 39-9011 Child Care Workers.
41-0000 Sales and Related Occupations:
41-9000 Other Sales and Related Workers
41-9090 Miscellaneous Sales and Related Workers
41-9099 Sales and Related Workers, All Other Except Fundraisers | 41-9099 Sales and Related Workers, All Other *.
43-0000 Office and Administrative Support Occupations
43-3000 Financial Clerks
43-3020 Billing and Posting Clerks
43-3021 Billing and Posting Clerks | 43-3021 Billing and Posting Clerks and Machine Operators.
43-3090 Miscellaneous Financial Clerks:
43-3099 Financial Clerks, All Other | 43-9199 Office and Administrative Support Workers, All Other *.
43-6011 Executive Secretaries and Executive Administrative Assistants | 43-6011 Executive Secretaries and Administrative Assistants.
43-6014 Secretaries and Administrative Assistants, Except Legal, Medical, and Executive | 43-6014 Secretaries, Except Legal, Medical, and Executive.
43-9000 Other Office and Administrative Support Workers
43-9190 Miscellaneous Office and Administrative Support Workers:
43-9199 Office and Administrative Support Workers, All Other Except financial clerks, all other | 43-9199 Office and Administrative Support Workers, All Other *.
49-0000 Installation, Maintenance, and Repair Occupations:
49-2021 Radio, Cellular and Tower Equipment, Installers and Repairers | 49-2021 Radio Mechanics.
49-3041 Farm Equipment Mechanics and Service Technicians | 49-3041 Farm Equipment Mechanics.
49-3051 Motorboat Mechanics and Service Technicians | 49-3051 Motorboat Mechanics.
49-9000 Other Installation, Maintenance, and Repair Occupations:
49-9070 Maintenance and Repair Workers, General:
49-9071 Maintenance and Repair Workers, General | 49-9099 Installation, Maintenance, and Repair Workers, All Other *.
49-9090 Miscellaneous Installation, Maintenance, and Repair Workers:
49-9099 Installation, Maintenance, and Repair Workers, All Other Except maintenance and repair workers, general | 49-9099 Installation, Maintenance, and Repair Workers, All Other *.
51-0000 Production Occupations:
51-3000 Food Processing Workers:
51-3090 Miscellaneous Food Processing Workers:
51-3099 Food Processing Workers, All Other | 51-9199 Production Workers, All Other *.
51-4012 Computer Numerically Controlled Machine Tool Programmers, Metal and Plastic | 51-4012 Numerical Tool and Process Control Programmers.
51-4050 Metal Furnace Operators, Tenders, Pourers, and Casters | 51-4050 Metal Furnace and Kiln Operators and Tenders.
51-4190 Miscellaneous Metal Workers and Plastic Workers | 51-4190 Miscellaneous Metalworkers and Plastic Workers.
51-4192 Layout Workers, Metal and Plastic | 51-4192 Lay-Out Workers, Metal and Plastic.
51-5100 Printing Workers:
51-5110 Printing Workers:
51-5111 Prepress Technicians and Workers | 51-5022 Prepress Technicians and Workers.
51-5112 Printing Press Operators | 51-5021 Job Printers *.
| 51-5023 Printing Machine Operators.
51-5113 Print Finishing and Binding Workers | 51-5011 Bindery Workers.
| 51-5012 Bookbinders.
| 51-5021 Job Printers *.
51-8030 Water and Wastewater Treatment Plant and System Operators:
51-8031 Water and Wastewater Treatment Plant and System Operators | 51-8031 Water and Liquid Waste Treatment Plant and System Operators.
51-9000 Other Production Occupations:
51-9150 Photographic Process Workers and Processing Machine Operators | 51-9130 Photographic Process Workers and Processing Machine Operators.
51-9151 Photographic Process Workers and Processing Machine Operators | 51-9131 Photographic Process Workers.
| 51-9132 Photographic Processing Machine Operators.
51-9191 Adhesive Bonding Machine Operators and Tenders | 51-9191 Cementing and Gluing Machine Operators and Tenders.
51-9190 Miscellaneous Production Workers:
51-9199 Production Workers, All Other Except food processing workers, all other | 51-9199 Production Workers, All Other *.
53-0000 Transportation and Material Moving Occupations:
53-3000 Motor Vehicle Operators
53-3022 Bus Drivers, School or Special Client | 53-3022 Bus Drivers, School.
53-3033 Drivers, Light Vehicle or Delivery Services | 53-3033 Truck Drivers, Light or Delivery Services.
53-7110 Mine Shuttle Car Operators
53-7111 Mine Shuttle Car Operators | 53-7111 Shuttle Car Operators .

[FR Doc. E8-11447 Filed 5-21-08; 8:45 am]

BILLING CODE 3110-01-P